DEPARTMENT OF JUSTICE

[AAG/A Order No. 282-2002]

Privacy Act of 1974; System of Records

Pursuant to the provisions of the Privacy Act of 1974 (5 U.S.C. 552a), the Immigration and Naturalization Service (INS), Department of Justice, proposes to modify the following system of records entitled “National Automated Immigration Lookout System (NAILS) last published April 4, 2001 (65 FR 17928).” The INS has modified this system of records to include two new routine use disclosures (i.e., K and L).

Routine use K allows officials and employees of federal agencies or entities to have access to necessary INS information to assist them with their operations. Routine use L allows disclosure to assist in conducting national intelligence and security investigations. In accordance with 5 U.S.C. 552a(e)(4) and (11), the public is given a 30-day period in which to comment on the system of records. The Office of Management and Budget (OMB), which has oversight responsibility under the Act, requires a 40-day period in which to conclude its review of the system. Therefore, please submit any comment by September 16, 2002. The public OMB and the Congress are invited to submit any comments to Mary Cahill, Management Analyst, Management and Planning Staff, Justice Management Division, Department of Justice, Washington, DC 20530 (Room 1400, National Place Building).

In accordance with 5 U.S.C. 552a the Department has provided a report to OMB and the Congress.

Dated: August 9, 2002.
Robert F. Diegelman,
Acting Assistant Attorney General for Administration.

Justice/INS-032

System Name:

National Automated Immigration Lookout System (NAILS).

* * * * *

Routine Uses of Records Maintained in the System, Including Categories of Users and the Purpose of Such Uses:

K. To officials and employees of a federal agency or entity which has a need for information relevant to a decision concerning the hiring, appointment, or retention or an employee, the issuance or retention of a security clearance; the execution of a security or suitability investigation; the classification of a job; or the issuance of a contract, grant, or benefit.

L. To other federal agencies for the purpose of conducting national intelligence and security investigations.

* * * * *

[FR Doc. 02-20859 Filed 8-15-02; 8:45 am]

BILLING CODE 4410-10-P